DEPARTMENT OF COMMERCE

International Trade Administration

[A-533-924]

Melamine From India: Postponement of Final Determination of Sales at Less Than Fair Value Investigation

AGENCY: Enforcement and Compliance, International Trade Administration, Department of Commerce.

SUMMARY: The U.S. Department of Commerce (Commerce) is postponing the deadline for issuing the final determination in the less-than-fair-value (LTFV) investigation of melamine from India until February 6, 2025, and is extending the provisional measures from a four-month period to a period of not more than six months.

DATES: Applicable October 23, 2024.

FOR FURTHER INFORMATION CONTACT: Myrna Lobo, AD/CVD Operations, Office VII, Enforcement and Compliance, International Trade Administration, U.S. Department of Commerce, 1401 Constitution Avenue NW, Washington, DC 20230; telephone: (202) 482-2371.

SUPPLEMENTARY INFORMATION:

Background

On March 5, 2024, Commerce initiated an LTFV investigation of imports of melamine from India.¹ The period of investigation is January 1, 2023, through December 31, 2023. On September 24, 2024, Commerce published its preliminary determination in this LTFV investigation of melamine from India.²

¹ See Melamine from Germany, India, Japan, the Netherlands, Qatar, and Trinidad and Tobago: Initiation of Less-Than-Fair-Value Investigations, 89 FR 17413 (March 11, 2024).

² See Melamine from India: Preliminary Affirmative Determination of Sales at Less Than Fair Value and Affirmative Determination of Critical Circumstances, in Part, 89 FR 77832 (September 24, 2024) (Preliminary Determination).

Postponement of Final Determination

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioners. Further, 19 CFR 351.210(e)(2) requires that such postponement requests by exporters be accompanied by a request for extension of provisional measures from a four-month period to a period of not more than six months, in accordance with section 733(d) of the Act.

On October 8, 2024, Gujarat State Fertilizers and Chemicals Limited (GSFC), the respondent in this investigation, requested that Commerce postpone the deadline for the final determination, and extend the application of the provisional measures from a four-month period to a period of not more than six months.³ In accordance with section 735(a)(2)(A) of the Act and 19 CFR 351.210(b)(2)(ii), because: (1) the preliminary determination was affirmative; (2) the request was made by the exporters and producers who account for a significant proportion of exports of the subject merchandise; and (3) no compelling reasons for denial exist, Commerce is postponing the final determination until no later than 135 days after the date of the publication of the Preliminary Determination, and extending the provisional measures from a four-month period to a period of not more than six months. Accordingly, Commerce will issue its final determination no later than February 6, 2025.

³ See GSFC's Letter, “Request for Extension of Final Results,” dated October 8, 2024.

This notice is issued and published pursuant to 19 CFR 351.210(g).

Dated: October 17, 2024.
Ryan Majerus,
Deputy Assistant Secretary for Policy and Negotiations, performing the non-exclusive functions and duties of the Assistant Secretary for Enforcement and Compliance.

[FR Doc. 2024-24499 Filed 10-22-24; 8:45 am]

BILLING CODE 3510-DS-P